FEDERAL COMMUNICATIONS COMMISSION

Notice of Public Information Collection(s) Being Reviewed by the Federal Communications Commission

June 14, 2000.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before July 21, 2000. If you anticipate that you will be submitting comments, but find it difficult to do so within the period of time allowed by this notice, you should advise the contact listed below as soon as possible.

ADDRESSES: Direct all comments to Judy Boley, Federal Communications Commission, Room 1-C804, 445 12th Street, SW, DC 20554 or via the Internet to jboley@fcc.gov.

FOR FURTHER INFORMATION CONTACT: For additional information or copies of the information collection(s), contact Judy Boley at 202-418-0214 or via the Internet at jboley@fcc.gov.

SUPPLEMENTARY INFORMATION: OMB Control No.: 3060-0465.

Title: Section 74.985, Signal Booster Stations.

Form No.: N/A.

Type of Review: Revision of a currently approved collection.

Respondents: Business or other for-profit, not-for-profit institutions.

Number of Respondents: 6,300.

Estimated Time Per Response: 5 minutes (.084 hours) to 5 hours.

Frequency of Response: Recordkeeping requirement, third party disclosure requirement, and on occasion reporting requirement.

Total Annual Burden: 919 hours.

Total Annual Cost: $2,252,500.

Needs and Uses: Section 74.985 requires signal booster stations to: (1) Submit engineering data or showings in specified forms to the FCC's duplicating contractor for public service records duplication; (2) to serve a copy of application (FCC Form 331) and accompanying engineering materials on affected co-channel or adjacent channel parties; and (3) to retain a copy of the application at the transmitter site. The data are sued to ensure that MDS and ITFS applicants and licensees have considered properly the potential for harmful interference from their facilities.

OMB Control No.: 3060-0027.

Title: Application for construction Permit for Commercial Broadcast Station.

Form No.: FCC Form 301.

Type of Review: Revision of a currently approved collection.

Respondents: Business or other for-profit.

Number of Respondents: 3,370.

Estimated Time Per Response: 37—121 hours.

Frequency of Response: Third party disclosure requirement, and on occasion reporting requirement.

Total Annual Burden: 7,427 hours.

Total Annual Cost: $35,485,300.

Needs and Uses: On January 20, 2000, the Commission adopted a Report and Order in MM Docket Nos. 98-204 and 96-16, which modified the Commission's broadcast and cable EEO rules and policies consistent with the D.C. Circuit Court's decision in the Luther Church matter. The new EEO rules ensure equal employment opportunity in the broadcast industry through vigorous outreach and prevention and prevention of discrimination. With the adoption of this Report and Order, the Commission reinstates the requirement that broadcast applicants file the FCC Form 396-A at the time they file an application for a new construction permit. The Commission revised the FCC Form 301 to add a question to advise respondents that they are required to submit the FCC Form 396-A at the time they apply for a new construction permit. The data is used by the Commission to determine whether an applicant meets basic statutory requirements to become a Commission licensee and to ensure that the public interest would be served by grant of the application.

Federal Communications Commission.
Magalie Roman Salas,
Secretary.

[FR Doc. 00-15577 Filed 6-20-00; 8:45 am]

BILLING CODE 6712-01-P